DEPARTMENT OF HEALTH AND HUMAN SERVICES

Indian Health Service

Reimbursement Rates for Calendar Year 2011

AGENCY: Indian Health Service, HHS.

ACTION: Notice.

SUMMARY: Notice is given that the Director of Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2011 for Medicare and Medicaid beneficiaries and beneficiaries of other Federal programs. The Medicare Part A inpatient rates are excluded from the table below as they are paid based on the prospective payment system. Since the inpatient rates set forth below do not include all physician services and practitioner services, additional payment may be available to the extent that those services meet applicable requirements.

Inpatient Hospital Per Diem Rate (Excludes Physician/Practitioner Services)
Calendar Year 2011
Lower 48 States | $2,034
Alaska | 2,269
Outpatient Per Visit Rate (Excluding Medicare)
Calendar Year 2011
Lower 48 States | 294
Alaska | 490
Outpatient Per Visit Rate (Medicare)
Calendar Year 2011
Lower 48 States | 256
Alaska | 447
Medicare Part B Inpatient Ancillary Per Diem Rate
Calendar Year 2011
Lower 48 States | 443
Alaska | 756

Outpatient Surgery Rate (Medicare)

Established Medicare rates for freestanding Ambulatory Surgery Centers.

Effective Date for Calendar Year 2011 Rates

Consistent with previous annual rate revisions, the Calendar Year 2011 rates will be effective for services provided on/or after January 1, 2011 to the extent consistent with payment authorities including the applicable Medicaid State plan.

Dated: March 7, 2011.
Yvette Roubideaux,
Director, Indian Health Service.

[FR Doc. 2011-10623 Filed 4-29-11; 8:45 am]

BILLING CODE 4165-16-P